DEPARTMENT OF HEALTH AND HUMAN SERVICES

Centers for Disease Control and Prevention

[60Day-09-08BS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Testing and Development of Materials Promoting Prevention and Control of Traumatic Brain Injury in Schools—New—, Division of Injury Response (DIR), National Center for Injury Prevention and Control (NCIPC), Centers for Disease Control and Prevention (CDC).

Background and Brief Description

Each year, an estimated 1.4 million Americans sustain a traumatic brain injury (TBI). A TBI is caused by a bump, blow, or jolt to the head or a penetrating head injury that disrupts the normal function of the brain.

Children ages 0 to 4 years and adolescents ages 15-19 are at the greatest risk of sustaining a TBI, as they often sustain TBIs from a host of mechanisms including falls (down stairs or from heights such as counter tops or beds), direct impacts (e.g. getting hit in the head with a ball), and motor vehicle crashes.

In order to address this important public health problem among young children and adolescents, CDC plans to conduct a national TBI educational initiative aimed at school nurses, school counselors, school psychologists, and school administrators. As part of the initiative, CDC will develop educational materials and messages for these audiences, as well as tools for partners, to help improve the prevention, recognition, and management of TBI among school-aged children and adolescents.

School nurses, school counselors, school psychologists, and school administrators are important audiences for this initiative, as they are well positioned to address short- and long-term issues related to TBI. These audiences play an important role in addressing the needs of students and working collaboratively with educators and parents. School nurses need current, reliable, and easy to use materials about TBI, to keep them up-to-date on the issue and assist them in educating and caring for students who come to them with a suspected TBI. Nurses, counselors and administrators can promote prevention of TBI in the school setting and inform educators and parents about TBI prevention and recognition in the classroom, on the playground and on the field. They can also work with schools to institute TBI specific back-to-school and return-to-play plans.

As part of this research, school nurses, counselors, psychologists, and administrators will participate in professionally moderated individual in-depth interviews. Information will be collected concerning respondents' knowledge, attitudes, and beliefs about traumatic brain injury and where and how they get health information.

The goal of these interviews with school professionals is to understand needs of school professionals (including school nurses, school counselors, school psychologists, and school administrators) for materials or tools related to TBI. The materials will provide guidance on how to prevent and recognize TBI in students. The content discussed in these interviews will be used to refine materials and develop future materials. There are no costs to respondents other than their time.

Estimated Annualized Burden Hours
Type of respondents | Form name | Number of respondents | Number of responses per respondent | Average burden per response (in hours) | Total burden (in hours)
School nurses, counselors, psychologists, and administrators | Screening and Recruitment | 96 | 1 | 10/60 | 16
| Interview Guide: Model Programs | 45 | 1 | 1 | 45
Total |  |  |  |  | 61

Dated: October 1, 2008.
Maryam I. Daneshvar,
Acting Reports Clearance Officer, Centers for Disease Control and Prevention.

[FR Doc. E8-24559 Filed 10-15-08; 8:45 am]

BILLING CODE 4163-18-P